DEPARTMENT OF TRANSPORTATION

Federal Aviation Administration

[AC 23-18]

Advisory Circular (AC) 23-18, Installation of Terrain Awareness and Warning System (TAWS) Approved Under TSO-C151a for Part 23 Airplanes

AGENCY: Federal Aviation Administration, DOT.

ACTION: Notice of issuance of Advisory Circular (AC).

SUMMARY: This notice announces the issuance of Advisory Circular (AC) 23-18, Installation of Terrain Awareness and Warning System (TAWS) Approved Under TSO-C151a for Part 23 Airplanes. This AC establishes an acceptable means, but not the only means, of obtaining FAA airworthiness approval for the installation of a TAWS that has been approved under Technical Standard Order (TSO)-C151a, Terrain Awareness and Warning System, in a Part 23 airplane.

DATES: On June 14, 2000, the Small Airplane Directorate issued AC 23-18.

How To Request Copies: Copies of the AC are available from the U.S. Department of Transportation, Subsequent Distribution Office, Ardmore East Business Center, 3341 Q 75th Avenue, Landover, MD 20785. The advisory circular is also available on the internet at http://www.faa.gov/avr/air/airhome.htm.

Issued in Kansas City, Missouri, on June 20, 2000.
Larry Werth,
Acting Manager, Small Airplane Directorate, Aircraft Certification Service.

[FR Doc. 00-16331 Filed 6-27-00; 8:45 am]

BILLING CODE 4910-13-P